DEPARTMENT OF THE INTERIOR

Fish and Wildlife Service

50 CFR Part 17

[Docket No. FWS-R8-ES-2023-0157; FXES1111090FEDR-256-FF09E21000]

RIN 1018-BH11

Endangered and Threatened Wildlife and Plants; Designation of Critical Habitat for Four Distinct Population Segments of the Foothill Yellow-Legged Frog; Reopening of the Comment Period

AGENCY: Fish and Wildlife Service, Interior.

ACTION: Proposed rule; reopening of the comment period.

SUMMARY: We, the U.S. Fish and Wildlife Service, announce that we are reopening the comment period for the proposed rule to designate critical habitat for four distinct population segments (DPSs) of the foothill yellow-legged frog (Rana boylii) under the Endangered Species Act of 1973, as amended (Act). In total, approximately 760,071 acres (307,590 hectares) in California fall within the boundaries of the proposed critical habitat designation. Comments previously submitted on the proposed rule need not be resubmitted as they are already incorporated into the public record for the rulemaking action and will be fully considered in our development of the final rule.

DATES: The comment period on the proposed rule that published on January 14, 2025, at 90 FR 3412 is reopened until July 28, 2025. Comments submitted electronically using the Federal eRulemaking Portal (see ADDRESSES, below) must be received by 11:59 p.m. eastern time on the closing date.

ADDRESSES:

Availability of documents: You may obtain a copy of the proposed rule and associated supporting documents on the internet at https://www.regulations.gov at Docket No. FWS-R8-ES-2023-0157.

Comment submission: You may submit written comments by one of the following methods:

(1) Electronically: Go to the Federal eRulemaking Portal: https://www.regulations.gov. In the Search box, enter FWS-R8-ES-2023-0157, which is the docket number for this rulemaking. Then, click on the Search button. On the resulting page, in the panel on the left side of the screen, under the Document Type heading, check the Proposed Rule box to locate the correct document. You may submit a comment by clicking on “Comment.”

(2) By hard copy: Submit by U.S. mail to: Public Comments Processing, Attn: FWS-R8-ES-2023-0157, U.S. Fish and Wildlife Service, MS: PRB/3W, 5275 Leesburg Pike, Falls Church, VA 22041-3803.

FOR FURTHER INFORMATION CONTACT: Kim Turner, Deputy Field Supervisor, U.S. Fish and Wildlife Service, Sacramento Fish and Wildlife Office; 916-414-6606; kim_s_turner@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On August 29, 2023, under the authority of the Endangered Species Act of 1973, as amended (Act; 16 U.S.C. 1531 et seq.), we published a final rule (88 FR 59698) that added four DPSs of the foothill yellow-legged frog to the List of Endangered and Threatened Wildlife at 50 CFR 17.11(h). Two DPSs are listed as endangered, and two DPSs are listed as threatened. On January 14, 2025, after obtaining required information to complete our analysis for determining critical habitat, we published a proposed rule to designate critical habitat for the four DPSs (90 FR 3412). The proposed rule opened a 60-day comment period, which ended March 17, 2025.

As a result of a public request and to give all interested parties an additional opportunity to comment on the proposed rule, we are reopening the comment period for the proposed rule to designate critical habitat for the four DPSs of the foothill yellow-legged frog described above for an additional 60-day period.

Please refer to the proposed rule to designate critical habitat for more information on our proposed action and the specific information we seek. Additional information about the proposed rule, including supplementary materials and the comments received, is available on the internet at https://www.regulations.gov at Docket No. FWS-R8-ES-2023-0157.

We request that you send comments only by the methods described above in ADDRESSES. We will post all comments on https://www.regulations.gov. This generally means that we will post any personal information you provide us (see Public Comments, below, for more information).

Public Comments

If you already submitted comments or information on the January 14, 2025, proposed rule (90 FR 3412), please do not resubmit them. Any such comments are incorporated as part of the public record of the rulemaking proceeding, and we will fully consider them in the preparation of our final determination.

Comments should be as specific as possible. Please include any supplemental information with your submission (such as scientific journal articles or other publications) to allow us to verify any scientific information you include. Please note that submissions merely stating support for, or opposition to, the action under consideration without providing supporting information, although noted, do not provide substantial information necessary to support a determination, as section 4(b)(2) of the Act directs that the Secretary shall designate critical habitat on the basis of the best scientific data available.

You may submit your comments and materials by one of the methods listed in ADDRESSES. We request that you send comments only by the methods described in ADDRESSES. If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Signing Authority

Paul Souza, Regional Director, Region 8, Exercising the Delegated Authority of the Director of the U.S. Fish and Wildlife Service, approved this action on May 6, 2025, for publication. On May 20, 2025, Paul Souza authorized the undersigned to sign the document electronically and submit it to the Office of the Federal Register for publication as an official document of the U.S. Fish and Wildlife Service.

Madonna Baucum,
Regulations and Policy Chief, Division of Policy, Economics, Risk Management, and Analytics of the Joint Administrative Operations, U.S. Fish and Wildlife Service.

[FR Doc. 2025-09352 Filed 5-23-25; 8:45 am]

BILLING CODE 4333-15-P